Title 3—

The President

Proclamation 9327 of September 21, 2015

National Voter Registration Day, 2015

By the President of the United States of America

A Proclamation

The right to vote is a cornerstone of what it means to be a free people: It represents the bedrock tenets of equality and civic participation upon which our Nation was founded. Throughout American history, courageous patriots of every background and creed have fought to extend this right to all and to bring our country closer to its highest ideals. Voting is vital to a principle at the core of our democracy—that men and women of free will have the capacity to shape their own destinies. On National Voter Registration Day, we recommit to upholding this belief by encouraging all eligible Americans to register to vote and exercise this essential right.

The task of perfecting our Union lies with our citizens, and my Administration is dedicated to working with people across our country to empower Americans to play an active part in forging the future we all share. In that spirit, in 2013 I launched a nonpartisan commission aimed at fulfilling this task, which issued commonsense suggestions aimed at improving the voting experience. But government alone can only do so much. As a Nation, we must commit ourselves to fulfilling the critical responsibility of participating in our society.

It is up to each individual citizen to exercise the right that so many struggled to obtain and protect—and when we choose not to do so, we dishonor those who laid down their lives for it. Our Nation has one of the lowest voting rates among free societies, and Americans disenfranchise themselves by disengaging from our political process too often. Our country is only as strong as the leaders we elect, and the task of democracy is not theirs alone—it is up to all our people to build the kind of world we want our children to inherit.

Today, we reaffirm our enduring belief in the democratic process and set out to fulfill the most sacred and significant duty we have as Americans: to make our voices heard. On National Voter Registration Day, let us pay tribute to our legacy of liberty and self-government by registering to vote and encouraging those around us to join in the work of bettering our communities. Each of us can exercise the franchise that defines who we are as a Nation and upholds our belief in a government that reflects our determined will, our highest hopes, and our utmost aspirations.

NOW, THEREFORE, I, BARACK OBAMA, President of the United States of America, by virtue of the authority vested in me by the Constitution and the laws of the United States, do hereby proclaim September 22, 2015, as National Voter Registration Day. I call upon all Americans to observe this day by registering to vote.

IN WITNESS WHEREOF, I have hereunto set my hand this twenty-first day of September, in the year of our Lord two thousand fifteen, and of the Independence of the United States of America the two hundred and fortieth.

[FR Doc. 2015-24518

Filed 9-23-15; 11:15 am]

Billing code 3295-F5-P